DEPARTMENT OF HOMELAND SECURITY

Federal Emergency Management Agency

[Docket ID FEMA-2012-0012]

National Flood Insurance Program Programmatic Environmental Impact Statement Scoping Meeting Dates

AGENCY: Federal Emergency Management Agency, DHS.

ACTION: Notice.

SUMMARY: The Notice of Intent to prepare an Environmental Impact Statement on the Federal Emergency Management Agency's (FEMA) National Flood Insurance Program (NFIP) was published in the May 16, 2012 Federal Register at 77 FR 28891, and requested public comments no later than July 16, 2012. Thirty-nine comments were received.

Due to the extenuating circumstances caused by the passage of a 5-year NFIP reauthorization (See Biggert-Waters Flood Insurance Reform Act of 2012, Pub. L. 112-141, 126 Stat. 405), interested parties requested an extension of the initial comment period. FEMA reopened the comment period for submitting public comments to October 9, 2012, for Docket ID FEMA-2012-0012 through publication in the Federal Register at 77 FR 50706 on August 22, 2012. Two comments were received. The comments received as part of the NOI will be considered in the preparation of this PEIS.

This notice sets forth the dates of public scoping meetings FEMA intends to hold online, as Webinars, to inform the public about FEMA's intended PEIS process and receive additional comments from the public. Information on the NFIP PEIS and instructions for online webinar registration is available on the project Web site at: https://www.fema.gov/programmatic-environmental-impact-statement.

DATES and LOCATIONS: The meetings will take place online, as webinars, and will be held on April 22, 2014, from 2:00 to 4:00 p.m. eastern standard time (EST); May 13, 2014, from 4:00 to 6:00 p.m. EST; and May 20, 2014, from 4:00 to 6:00 p.m. EST.

FOR FURTHER INFORMATION CONTACT: For information about how to register for the webinar or for further information on FEMA's PEIS, contact: Beth Norton, Federal Emergency Management Agency, Federal Insurance and Mitigation Administration, Risk Reduction Division, Floodplain Management Branch, 1800 South Bell Street, 9th Floor, Arlington, VA 20598-3030. Phone: (202) 646-2716 or via email at Beth.Norton@fema.dhs.gov.

SUPPLEMENTARY INFORMATION: FEMA is developing a Programmatic Environmental Impact Statement (PEIS) of the NFIP to consider the environmental impacts of the NFIP as it is currently implemented, to update the 1976 EIS on the NFIP, and to consider potential changes to the Program's implementation. Public scoping meetings in the format of online webinars will assist FEMA in determining the scope of issues to be addressed in the NFIP PEIS and for identifying significant issues related to a proposed action.

The Federal Insurance and Mitigation Administration (FIMA), a component of FEMA, administers the NFIP. The three primary components of the NFIP are Flood Insurance, Floodplain Management, and Flood Hazard Mapping. More than 22,000 communities across the United States and its territories participate in the NFIP by adopting and enforcing floodplain management ordinances to reduce future flood damages as a condition for the availability of Federal flood insurance.

In addition to making Federal flood insurance available and reducing flood damages through floodplain management regulations, the NFIP identifies and maps the Nation's floodplains. Mapping flood hazards creates a broad-based awareness of flood hazards and risks, provides data needed for effective floodplain management programs, and enables FEMA to identify actuarial rates for flood insurance premiums.

The NFIP has been evaluated and modified several times, most recently by the Biggert-Waters Flood Insurance Reform Act of 2012 (BW-12), which was signed into law on July 6, 2012 and which provides for a significant reform of the NFIP and extends the program through September 30, 2017. Implementation of legislative revisions since the initial National Flood Insurance Act of 1968, including BW-12, the Bunning-Bereuter-Blumenauer Flood Insurance Reform Act of 2004, and the Flood Disaster Reform Act of 1973, administrative programmatic initiatives, public input received on the 2012 Notice of Intent, and comments received during the online webinars will be used to develop the PEIS.

FEMA has developed a Purpose and Need statement for evaluating NFIP proposed action and alternatives which was published in the 2012 NOI and can be viewed at http://www.regulations.gov/ under Docket ID FEMA-2012-0012. The Purpose and Need statement will include a No Action option that will analyze the Program as it stands today to include program changes that have taken place since the 1976 Programmatic Environmental Impact Statement for the Revised Floodplain Management Regulations of the National Flood Insurance Program. The Proposed Action is intended to enhance programmatic efficiency and effectiveness in a manner that will reduce unsound development in the floodplain and protect environmentally sensitive areas.

The PEIS will analyze a range of reasonable alternatives in order to consider the impacts of the Proposed Action on all resource areas required under NEPA at a nationwide, programmatic level, and will perform additional, more site-specific analysis to support and illustrate the conclusions of the programmatic level analysis. A list of draft alternatives for consideration was published in the 2012 NOI and can be viewed at http://www.regulations.gov/ under Docket ID FEMA-2010-0065. Each alternative analyzed will consist of enhanced program standards for each of the three primary elements of the NFIP: mapping, floodplain management, and insurance to consider as part of proposed modifications.

FEMA also intends to initiate discussions with other Federal agencies on the scope of this effort and identify cooperating agencies interested in participating as such in this process. FEMA intends to work with the U.S. Fish and Wildlife Service (USFWS) and National Marine Fisheries Service (NMFS) to comply with the Endangered Species Act. FEMA also intends to work with the USFWS to comply with the Fish and Wildlife Coordination Act.

FEMA has received comments from the May 16, 2012 Notice of Intent (77 FR 28891-28893) and the August 22, 2012 extension of public comment period (77 FR 50706) issued for the preparation of a PEIS for the Program. These comments and any additional comments received during the online webinars will be considered in the preparation of this PEIS.

Any additional meetings will be announced on the project Web site at: https://www.fema.gov/programmatic-environmental-impact-statement.

Authority: National Environmental Policy Act (NEPA), as amended, 42 U.S.C. 4331 et seq.; 40 CFR part 1500; 44 CFR part 10.

Dated: March 19, 2014.
W. Craig Fugate,
Administrator, Federal Emergency Management Agency.

[FR Doc. 2014-06525 Filed 3-24-14; 8:45 am]

BILLING CODE 9110-12-P